MORRIS K. UDALL AND STEWART L. UDALL FOUNDATION, THE UNITED STATES INSTITUTE FOR ENVIRONMENTAL CONFLICT RESOLUTION

Agency Information Collection Activities: Proposed Collection; Renewal of Currently Approved Information Collection; Comment Request

AGENCY: Morris K. Udall and Stewart L. Udall Foundation, U.S. Institute for Environmental Conflict Resolution.

ACTION: Notice.

SUMMARY: In compliance with the Paperwork Reduction Act (44 U.S.C. 3501 et seq.), this document announces that the U.S. Institute for Environmental Conflict Resolution (the U.S. Institute), part of the Udall Foundation, will submit for Office of Management and Budget (OMB) review, a renewal request for the currently approved information collection request (ICR), OMB Control No. 3320-0008 due to expire 04/30/2012: Application for the National Roster of Environmental Conflict Resolution and Collaboration Professionals. The renewal request includes revisions to the currently approved collection.

Comments are invited on: (1) Whether the proposed collection of information is necessary for the performance of the functions of the agency, including whether the information has practical utility; (2) the accuracy of the agency's estimate of the time spent completing the application (“burden of the proposed collection of information”); (3) ways to enhance the quality, utility, and clarity of the information collected; (4) ways to minimize the burden of the collection of information on those who are to respond, including through the use of technology.

DATES: Comments must be submitted on or before April 28, 2012.

For Further Information or To Submit Comments, Contact: Patricia Orr, Director of Policy, Planning and Budget, U.S. Institute for Environmental Conflict Resolution, 130 South Scott Avenue, Tucson, Arizona 85701, Fax: 520-670-5530, Phone: 520-901-8548, E-mail: orr@ecr.gov. When submitting comments, reference this Federal Register Notice.

SUPPLEMENTARY INFORMATION: Abstract: The U.S. Institute is a non-partisan federal program established by Congress to provide impartial assistance to parties in resolving environmental, natural resource, and public lands conflicts involving the U.S. government. The U.S. Institute accomplishes much of its work by partnering, contracting with, or referral to, experienced practitioners. In addition, the U.S. Institute maintains the National Roster of Environmental Conflict Resolution and Collaboration Professionals (roster). The Application for the National Roster of Environmental Conflict Resolution and Collaboration Professionals (application) compiles data available from the resumes of environmental neutrals (mediators, facilitators, etc.) into a format that is standardized for efficient and fair eligibility review, database searches, and retrievals.

The roster, the application and the related entry criteria, were developed collaboratively and with the support of partner federal agencies including the Environmental Protection Agency. To apply for membership of the roster a professional needs to complete the application form one time. Once an application is approved, the roster member has access to update information online as needed.

The proposed collection is necessary for screening new applicants and the maintenance of the online roster system. The application is available from the U.S. Institute's Web site at http://roster.ecr.gov/reference/documents/2012DRAFTRosterApplication.pdf.

Burden Statement

Affected public: Environmental conflict resolution professionals (new respondents); existing roster members (for updating).

Frequency of Response—new applicants: one time for new applicants.

Frequency of Response—existing applicants: one time first year update by all existing roster members to update existing information to the new format, with suggested updating for major information changes in the following two years.

Estimated Average Annual Respondents: 195 (25 new respondents/year; 310 existing respondents in the first year, 100/year in the following two years).

Total Annual Hours Burden: 234.15 hrs (62.50 hours for new respondents; 465 hours for existing respondents in the first year to update their information to the new format, 25 hours per year for the following two years).

Annual Cost Burden: $11,055 new response and updates combined ($2,951 for new respondents/year; $21,953 for existing respondent updates in the first year, $1,180 for existing respondent updates in the following two years). Labor costs exclusively; no capital or start-up costs.

Authority: 20 U.S.C. 5601-5609.

Dated: February 21, 2012.
Ellen Wheeler,
Executive Director, Udall Foundation.

[FR Doc. 2012-4445 Filed 2-24-12; 8:45 am]

BILLING CODE 6820-FN-P